DEPARTMENT OF HOMELAND SECURITY

U.S. Customs and Border Protection

[1651-0NEW]

Death Gratuity Information Sheet

AGENCY: U.S. Customs and Border Protection (CBP), Department of Homeland Security.

ACTION: 30-Day notice and request for comments; a new collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than May 30, 2023) to be assured of consideration.

ADDRESSES: Written comments and/or suggestions regarding the item(s) contained in this notice should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (87 FR 55016) on September 08, 2022, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Death Gratuity Information Sheet.

OMB Number: 1651-0NEW.

Form Number: N/A.

Current Actions: New collection of information.

Type of Review: New collection of information.

Affected Public: Individuals/households.

Abstract: When the U.S. Customs and Border Protection (CBP) Commissioner has made the determination that the death of a CBP employee is to be classified as a line-of-duty death (LODD), a Death Gratuity (DG) may become payable to the personal representative of the deceased. After the LODD determination is made, CBP will send the potential personal representative of the deceased a DG Information Sheet. This information sheet aids the involved CBP offices in establishing who the personal representative of the deceased is, approving DG, and subsequently, getting the payment paid to the correct person after CBP Commissioner approval.

Potential personal representatives are provided by/from the deceased CBP employee, through their executed beneficiary forms. However, if there are no beneficiary forms on file, next of kin will be identified via the emergency contact information listed with the agency for that employee in WebTele. Potential personal representatives will be required to provide the following data elements on the DG information sheet:

• Name of Deceased CBP Employee

• Date of Death

• Location of Death

• Name of Claimant/personal representative

• Address of Claimant/personal representative (for payment)

• Phone Number and Email Address of Claimant/personal representative

• Relationship to Employee (i.e., spouse, child, parent, etc.)

• If spouse, date of marriage

• If child or parent, date of birth

• First page of will, if applicable

• Contact information for Executor of Estate, if applicable

• Copy of Marriage Certificate, if applicable

• Copy of Letters of Administration, if applicable

CBP is authorized to collect the information requested on this form pursuant to Public Law 104-208 which allows the agency to pay a DG in some situations of LODD. 110 Stat. 3009-368, Sept. 30, 1996; 5 U.S.C. 8133 note. In order to make this payment, CBP must first identify and obtain the information from the personal representative so it can be known where and to whom the payment should be sent. CBP Retirement and Benefits Advisory Services (RABAS) has the authority designated by the Office of Personnel Management (OPM) to provide retirement, benefits, and survivor counselling and processing. This authority is outlined in detail in the Civil Service Retirement System/Federal Employee Retirement System (CSRS/FERS) Handbook, Federal Employees Group Life Insurance (FEGLI) Handbook, and Federal Employee Health Benefits (FEHB) Handbook.

Type of Information Collection: Death Gratuity Information Sheet.

Estimated Number of Respondents: 33.

Estimated Number of Annual Responses per Respondent: 1.

Estimated Number of Total Annual Responses: 33.

Estimated Time per Response: 15 minutes.

Estimated Total Annual Burden Hours: 8.

Dated: April 24, 2023.
Seth D. Renkema,
Branch Chief, Economic Impact Analysis Branch, U.S. Customs and Border Protection.

[FR Doc. 2023-08881 Filed 4-26-23; 8:45 am]

BILLING CODE 9111-14-P